DEPARTMENT OF HOUSING AND URBAN DEVELOPMENT

[Docket No. FR-5480-N-52]

Notice of Submission of Proposed Information Collection to OMB; Emergency Comment Request; Application for Energy Innovation Fund—Multifamily Pilot Program

AGENCY: Office of the Chief Information Officer.

ACTION: Notice of proposed information collection.

SUMMARY: The proposed information collection requirement described below has been submitted to the Office of Management and Budget (OMB) for emergency review and approval, as required by the Paperwork Reduction Act. The Department is soliciting public comments on the subject proposal.

This information is collected from applicants for a new pilot program seeking innovative proposals for increasing the energy efficiency of Multifamily Housing.

DATES: Comments Due Date: July 5, 2011.

ADDRESSES: Interested persons are invited to submit comments regarding this proposal. Comments must be received within fourteen (14) days from the date of this Notice. Comments should refer to the proposal by name/or OMB approval number (2502-New) and should be sent to: HUD Desk Officer, Office of Management and Budget, New Executive Office Building, Washington, DC 20503; e-mail: OIRA-Submission@omb.eop.gov; fax: 202-395-6974.

FOR FURTHER INFORMATION CONTACT: Colette Pollard, Departmental Reports Management Officer, QDAM, Department of Housing and Urban Development, 451 7th Street, SW., Washington, DC 20410; e-mail: Colette.Pollard@HUD.gov; telephone: (202) 402-3400. This is not a toll-free number. Copies of available documents submitted to OMB may be obtained from Ms. Pollard.

SUPPLEMENTARY INFORMATION: This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Energy Innovation Fund—Multifamily Energy Pilot Program.

OMB Control Number, if applicable: 2502-New.

Description of the need for the information and proposed use: Application information will be used to evaluate, score and rank applications for grant funds.

Agency Form Numbers: HUD 2880, HUD 424CB, HUD 2993, HUD 2991.SF424, SF424Supp. and SF LLL.

Members of Affected Public: Eligible applicants are limited to Treasury-certified community development financial institutions with affordable housing and development and rehabilitation programs; National, regional or local private or non-profit entities currently administering affordable housing development and rehabilitation programs; Special purpose financing entities; and Nonprofit or for-profit organizations (and/or consortia thereof) that own or control a portfolio of Eligible Multifamily Properties.

Estimation of the total numbers of hours needed to prepare the information collection including number of respondents, frequency of responses, and hours of response: The number of burden hours is 2470.5. The number of respondents is 383, the number of responses is 502, the frequency of response is on occasion, and the burden hours per response are 93.25.

Authority: The Paperwork Reduction Act of 1995, 44 U.S.C. chapter 35, as amended.

Dated: June 15, 2011.
Colette Pollard,
Reports Liaison Officer, Department of Housing and Urban Development.

[FR Doc. 2011-15268 Filed 6-17-11; 8:45 am]

BILLING CODE 4210-67-P